GOVERNMENT ACCOUNTABILITY OFFICE

Comptroller General's Advisory Council on Government Auditing Standards

AGENCY: U.S. Government Accountability Office.

ACTION: Notice of meeting.

SUMMARY: The Comptroller General's Advisory Council (Council) on Government Auditing Standards will hold a meeting on Thursday, September 14, 2023, from 10:00 a.m. to 4:00 p.m. to provide input and recommendations on revisions to Government Auditing Standards, also known as the Yellow Book. The purpose of the meeting is to discuss proposed revisions and updates as a result of comments received on the January 2023 Yellow Book Exposure Draft. The agenda and discussion materials for the meeting will be available at https://www.gao.gov/yellowbook approximately one week before the meeting.

DATES: The meeting will be held on Thursday, September 14, 2023, from 10:00 a.m. to 4:00 p.m.

ADDRESSES: The meeting will be held at the U.S. Government Accountability Office, 441 G Street NW, Washington, DC 20548, in the Staats Briefing Room (7C13).

FOR FURTHER INFORMATION CONTACT: For information on the meeting or the Yellow Book, please contact Michael Bingham, Assistant Director, Financial Management and Assurance, BinghamM@gao.gov or (202) 512-2886. To request a reasonable accommodation (RA) for this meeting, email GAO's RA office at ReasonableAccommodations@gao.gov. Please request all accommodations at least five business days prior to the event (by September 7, 2023).

SUPPLEMENTARY INFORMATION: In the afternoon, members of the public will have an opportunity to briefly address the Council on matters directly related to the proposed revisions. Any interested person who plans to attend the meeting as an observer must contact Michael Bingham, Assistant Director, at (202) 512-2886, before September 7, 2023. To obtain access to the GAO building for the meeting, a form of picture identification must be presented to the GAO Security Desk. Please enter the building at the G Street entrance. The meeting agenda will be available upon request one week before the meeting.

Authority: Pub. L. 67-13, 42 Stat. 20 (June 10, 1921).

James Dalkin,
Director, Financial Management and Assurance, U.S. Government Accountability Office.

[FR Doc. 2023-17801 Filed 8-17-23; 8:45 am]

BILLING CODE 1610-02-P